ENVIRONMENTAL PROTECTION AGENCY

[EPA-HQ-OLEM-2017-0458; FRL-9966-52-OLEM]

Release of Interim Final Guidance for State Coal Combustion Residuals Permit Programs; Comment Request

AGENCY: Environmental Protection Agency (EPA).

ACTION: Notice of availability; request for comment.

SUMMARY: The Environmental Protection Agency (EPA) is announcing the availability of and requests comment on a document titled Coal Combustion Residuals State Permit Program Guidance Document; Interim Final. As a result of the Water Infrastructure Improvements for the Nation (WIIN) Act signed by the President on December 16, 2016, States may submit coal combustion residuals (CCR) programs to EPA for review and approval. This document describes EPA's interpretations of the WIIN Act provisions and the way in which EPA generally intends to review State programs.

DATES: Comments must be received on or before September 14, 2017.

ADDRESSES: Submit your comments, identified by Docket ID No. EPA-HQ-OLEM-2017-0458; Title: Coal Combustion Residuals (CCR) State Permit Program Guidance Document (Interim Final) at http://www.regulations.gov. Follow the online instructions for submitting comments. Once submitted, comments cannot be edited or removed from Regulations.gov. The EPA may publish any comment received to its public docket. Do not submit electronically any information you consider to be Confidential Business Information (CBI) or other information whose disclosure is restricted by statute Multimedia submissions (audio, video, etc.) must be accompanied by a written comment. The written comment is considered the official comment and should include discussion of all points you wish to make. EPA will generally not consider comments or comment contents located outside of the primary submission (i.e., on the web, cloud or other file sharing system). For additional submission methods, the full EPA public comment policy, information about CBI or multimedia submissions, and general guidance on making effective comments, please visit http://www.epa.gov/dockets/commenting-epa-dockets.

FOR FURTHER INFORMATION CONTACT: Mary Jackson, Materials Recovery and Waste Management Division, Office of Resource Conservation and Recovery (5304P), Environmental Protection Agency, 1200 Pennsylvania Avenue NW., Washington, DC 20460; telephone number: (703) 308-8453; email address: jackson.mary@epa.gov.

SUPPLEMENTARY INFORMATION:

I. Background

Section 2301 of the Water Infrastructure Improvements for the Nation Act (WIIN) Act amended the Resource Conservation and Recovery Act to allow States to submit and EPA to approve State permit (or other system of prior approval and conditions) programs for CCR.

Coal Combustion Residuals State Permit Program Guidance Document; Interim Final is designed to provide information about the provisions of the 2016 WIIN Act, related to CCR, as well as the process and procedures EPA generally intends to use to review and make determinations on State CCR Permit Programs. The purpose of this document is to provide States guidance for developing and submitting a State CCR Permit Program for EPA approval.

The document has four (4) chapters. The first two are in the form of questions and answers. The first chapter provides an overview of the provisions of the WIIN Act. The second chapter contains the process and procedures EPA is currently planning to use to review and make determinations on State CCR programs, as well as the documentation EPA generally expects to request from States seeking approval of a program. The third and fourth chapters consist of checklists to aid the States as they are considering and developing their program submittals. Chapter 3 contains a checklist of all the requirements of the current CCR rule at 40 CFR part 257 subpart D. Chapter 4 provides a checklist of those items EPA generally expects a State would submit when seeking approval of its CCR program.

This guidance describes EPA's statutory interpretations and the way in which EPA generally intends to review State programs. As such, EPA encourages States to consult this interim final guidance and to use it as a technical resource as they develop and submit State CCR Permit programs to EPA for review and approval. As provided by Section 2301 of the WIIN Act, EPA must provide public notice and an opportunity for comment prior to approval of a State program by EPA. Thus, EPA's review and approval of a State program will be a separate process from this action that will provide for public notice and opportunity for comment on each State program.

The information and procedures in the document are intended as a technical resource to States that may be useful in developing and submitting a State CCRs Permit Program to EPA for approval. This Guidance does not constitute rulemaking by the Agency, and cannot be relied on to create a substantive or procedural right enforceable by any party in litigation with the United States. As indicated by the use of non-mandatory language such as “may” and “should,” it only provides recommendations and does not impose any legally binding requirements.

The guidance document can be found in the docket (Docket ID No. EPA-HQ-OLEM-2017-0458; Title: Coal Combustion Residuals (CCR) State Permit Program Guidance Document (Interim Final)) at http://www.regulations.gov. In addition, a copy of the guidance document and additional resources on CCR can also be found on EPA's Web site: www.epa.gov/coalash.

Dated: August 9, 2017.
Nigel Simon,
Acting Principal Deputy Assistant Administrator, Office of Land and Emergency Management.

[FR Doc. 2017-17270 Filed 8-14-17; 8:45 am]

BILLING CODE 6560-50-P